FEDERAL COMMUNICATIONS COMMISSION

47 CFR Part 73

[DA 08-304; MB Docket No. 07-221; RM-11402]

Radio Broadcasting Service; Susanville, CA

AGENCY: Federal Communications Commission.

ACTION: Final rule.

SUMMARY: The Audio Division grants a petition for rule making filed by Hilltop Church (“Petitioner”) to substitute Channel 264A for vacant Channel 262A at Susanville, California. Petitioner proposed the foregoing channel substitution to accommodate its construction permit application to modify the allotment of Station KHGQ (FM) (“KHGQ”) from Channel 265A to its original Channel 262A allotment at Quincy, California. Channel 264A can be allotted at Susanville, in compliance with the Commission's technical engineering requirements, at coordinates of 40-24-59 North Latitude and 120-39-07 West Longitude.

DATES: Effective March 24, 2008.

ADDRESSES: Secretary, Federal Communications Commission, 445 Twelfth Street, SW., Washington, DC 20554.

FOR FURTHER INFORMATION CONTACT: R. Barthen Gorman, Media Bureau, (202) 418-2187.

SUPPLEMENTARY INFORMATION: This is a synopsis of the Commission's Report and Order, MB Docket No. 07-221, adopted February 6, 2008, and released February 8, 2008. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73 Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under California, is amended by removing Channel 262A and by adding Channel 264A at Susanville.

Federal Communications Commission.
John A. Karousos,
Assistant Chief, Audio Division, Media Bureau.

[FR Doc. E8-3704 Filed 2-26-08; 8:45 am]

BILLING CODE 6712-01-P